DEPARTMENT OF VETERANS AFFAIRS

Veterans and Community Oversight and Engagement Board, Notice of Meeting

The Department of Veterans Affairs (VA) gives notice under the Federal Advisory Committee Act the Veterans and Community Oversight and Engagement Board will meet on September 12-13, 2018. Details on times and locations for meetings are contained below. The meetings are open to the public.

The Board was established by the West Los Angeles Leasing Act of 2016 on September 29, 2016. The purpose of the Board is to provide advice and make recommendations to the Secretary of Veterans Affairs on: Identifying the goals of the community and Veteran partnership; improving services and outcomes for Veterans, members of the Armed Forces, and the families of such Veterans and members; and on the implementation of the Draft Master Plan approved by the Secretary on January 28, 2016, and on the creation and implementation of any successor master plans.

On Wednesday, September 12, 2018, the Board will convene an open session at 11301 Wilshire Boulevard, Building 500, Room 1281, Los Angeles, CA from 8:30 a.m. to 5:30 p.m. The agenda will include briefings from senior VA officials, and information briefings from the Greater Los Angeles Draft Master Plan Integrated Project Team. Lease holders currently existing on the WLA Campus will provide a comprehensive briefing to the Committee that focuses on the details of their current Lease. A public comment session will occur from 4:00 p.m. to 5:00 p.m. followed by a wrap up of Public Comment session.

On Thursday, September 13, 2018, the Board will convene an open session at the same location as shown above from 8:00 a.m. to 4:30 p.m. The Board will receive additional briefings from current Lease holders residing on the WLA Campus. Comprehensive briefings that focus on the details of their current Lease will be provided to the Board. The Board's subcommittees on Outreach and Community Engagement, Services and Outcomes, and Master Plan will report out on activities since the last meeting, and progress on any draft recommendations considered for forwarding to the SECVA. Individuals wishing to make public comments should contact Dr. Betty Moseley Brown at (202) 465-6199 or at Betty.MoseleyBrown@va.gov and are requested to submit a 1-2-page summary of their comments for inclusion in the official meeting record. In the interest of time, each speaker will be held to a 5-minute time limit.

Any member of the public seeking additional information should contact Mr. Eugene W. Skinner Jr. at (202) 631-7645 or at Eugene.Skinner@va.gov.

Dated: August 15, 2018.
Jelessa M. Burney,
Federal Advisory Committee Management Officer.

[FR Doc. 2018-17904 Filed 8-17-18; 8:45 am]

BILLING CODE P